DEPARTMENT OF COMMERCE

National Institute of Standards and Technology

Malcolm Baldrige National Quality Award Board of Overseers

AGENCY: National Institute of Standards and Technology; Department of Commerce.

ACTION: Notice of Public Meeting.

SUMMARY: Pursuant to the Federal Advisory Committee Act, 5 U.S.C. app. 2, notice is hereby given that there will be a meeting of the Board of Overseers of the Malcolm Baldrige National Quality Award on December 9, 2009. The Board of Overseers is composed of eleven members prominent in the fields of quality, innovation, and performance management and appointed by the Secretary of Commerce, assembled to advise the Secretary of Commerce on the conduct of the Baldrige Award. The purpose of this meeting is to discuss and review information received from the National Institute of Standards and Technology and from the Chair of the Judges Panel of the Malcolm Baldrige National Quality Award. The agenda will include: Report from the Judges' Panel, Baldrige Program (BNQP) Update, Baldrige Fellows Program, Baldrige Program Changes in 2010, and Recommendations for the NIST Director.

DATES: The meeting will convene December 9, 2009, at 8:30 a.m. and adjourn at 3 p.m. on December 9, 2009.

ADDRESSES: The meeting will be held at the National Institute of Standards and Technology, Administration Building, Lecture Room A, Gaithersburg, Maryland 20899. All visitors to the National Institute of Standards and Technology site will have to pre-register to be admitted. Please submit your name, time of arrival, e-mail address and phone number to Diane Harrison no later than Monday, December 7, 2009, and she will provide you with instructions for admittance. Ms. Harrison's e-mail address is diane.harrison@nist.gov and her phone number is (301) 975-2361.

FOR FURTHER INFORMATION CONTACT: Dr. Harry Hertz, Director, Baldrige National Quality Program, National Institute of Standards and Technology, Gaithersburg, Maryland 20899, telephone number (301) 975-2361.

Dated: November 10, 2009.
Patrick Gallagher,
Director.

[FR Doc. E9-27596 Filed 11-16-09; 8:45 am]

BILLING CODE 3510-13-P